DEPARTMENT OF HEALTH AND HUMAN SERVICES

Food and Drug Administration

[FDA 225-04-8005]

Memorandum of Understanding Between the Food and Drug Administration and the Central Science Laboratory, Department of Environment, Food and Rural Affairs of the United Kingdom Concerning Analytical Methods in Support of Food Safety

AGENCY: Food and Drug Administration, HHS

ACTION: Notice.

SUMMARY: Food and Drug Administration (FDA) is providing notice of a memorandum of understanding (MOU) between FDA and the Central Science Laboratory, Department of Environment, Food and Rural Affairs of the United Kingdom. The purpose of this MOU is to provide a framework for developing a common approach to analytical methods in support of food safety in relation to the protection of public health and international trade.

DATES: The agreement became effective October 28, 2003.

FOR FURTHER INFORMATION CONTACT: Elizabeth Calvey, Center for Food Safety and Applied Nutrition (HFS-006), Food and Drug Administration, 5100 Paint Branch Pkwy., College Park, MD 20740, 301-436-1981.

SUPPLEMENTARY INFORMATION: In accordance with 21 CFR 20.108(c), which states that all written agreements and MOU's between FDA and others shall be published in the Federal Register, the agency is publishing notice of this MOU.

Dated: December 23, 2003.
Jeffrey Shuren,
Assistant Commissioner for Policy.

[FR Doc. 04-15 Filed 1-2-04; 8:45 am]

BILLING CODE 4160-01-S